DEPARTMENT OF THE INTERIOR

Fish and Wildlife Service

50 CFR Part 17

[Docket No. FWS-R5-ES-2023-0179; FXES1111090FEDR-245-FF09E21000]

RIN 1018-BH06

Endangered and Threatened Wildlife and Plants; Endangered Species Status for West Virginia Spring Salamander and Designation of Critical Habitat

AGENCY: Fish and Wildlife Service, Interior.

ACTION: Proposed rule; reopening of comment period.

SUMMARY: We, the U.S. Fish and Wildlife Service (Service), are reopening the public comment period on our December 20, 2023, proposed rule to list the West Virginia spring salamander (Gyrinophilus subterraneus), an amphibian species from Greenbrier County, West Virginia, as an endangered species and to designate critical habitat under the Endangered Species Act of 1973, as amended (Act). We are taking this action to allow all interested parties an additional opportunity to comment on the proposed listing of the species and the proposed critical habitat. Comments previously submitted need not be resubmitted and will be fully considered in our final determinations.

DATES: The comment period on the proposed rule that published December 20, 2023, at 88 FR 88012, is reopened. We will accept comments received or postmarked on or before September 20, 2024.

ADDRESSES:

Availability of documents: You may obtain copies of the December 20, 2023, proposed rule and associated documents on the internet at https://www.regulations.gov under Docket No. FWS-R5-ES-2023-0179.

Written comments: You may submit comments by one of the following methods:

(1) Electronically: Go to the Federal eRulemaking Portal: https://www.regulations.gov. In the Search box, enter FWS-R5-ES-2023-0179, which is the docket number for the proposed rule. Then, click on the Search button. On the resulting page, in the panel on the left side of the screen, under the Document Type heading, check the Proposed Rule box to locate this document. You may submit a comment by clicking on “Comment.” Please note that comments submitted electronically using the Federal eRulemaking Portal must be received by 11:59 p.m. Eastern Time on the closing date to ensure consideration.

(2) By hard copy: Submit by U.S. mail to: Public Comments Processing, Attn: FWS-R5-ES-2023-0179, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Jennifer Norris, Field Supervisor, U.S. Fish and Wildlife Service, West Virginia Ecological Services Field Office, 6263 Appalachian Highway, Davis, WV 26260; telephone 304-866-3858. Individuals in the United States who are deaf, blind, hard of hearing, or have a speech disability may dial 711 (TTY, TDD, or TeleBraille) to access telecommunications relay services. Individuals outside the United States should use the relay services offered within their country to make international calls to the point-of-contact in the United States. Please see Docket No. FWS-R5-ES-2023-0179 on https://www.regulations.gov for a document that summarizes the December 20, 2023, proposed rule.

SUPPLEMENTARY INFORMATION:

Background

On December 20, 2023, we published a proposed rule (88 FR 88012) to list the West Virginia spring salamander as an endangered species and to designate critical habitat under the Act. The proposed rule opened a 60-day public comment period, ending February 20, 2024. We are reopening the comment period to allow the public an additional opportunity to provide comments on the December 20, 2023, proposed rule.

For a description of previous Federal actions concerning listing of the West Virginia spring salamander and information on the types of comments that would be helpful to us in promulgating this rulemaking action, please refer to the December 20, 2023, proposed rule (88 FR 88012 at 88013).

Public Comments

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the December 20, 2023, proposed rule, will be available for public inspection on https://www.regulations.gov at Docket No. FWS-R5-ES-2023-0179.

Authors

The primary authors of this document are the staff members of the Fish and Wildlife Service's Species Assessment Team and the West Virginia Ecological Services Field Office.

Authority

The authority for this action is the Endangered Species Act of 1973, as amended (16 U.S.C. 1531 et seq.).

Martha Williams,
Director, U.S. Fish and Wildlife Service.

[FR Doc. 2024-19843 Filed 9-4-24; 8:45 am]

BILLING CODE 4333-15-P